DEPARTMENT OF THE INTERIOR

Bureau of Indian Affairs

[201A2100DD AAKC001030 A0A501010.999 253G; OMB Control Number 1076-0177]

Agency Information Collection Activities; Tribal Energy Development Capacity Program

AGENCY: Bureau of Indian Affairs, Interior.

ACTION: Notice of information collection; request for comment.

SUMMARY: In accordance with the Paperwork Reduction Act of 1995, we, the Office of the Assistant Secretary-Indian Affairs (AS-IA) are proposing to renew an information collection.

DATES: Interested persons are invited to submit comments on or before July 13, 2020.

ADDRESSES: Send your comments on this information collection request (ICR) by mail to the Winter Jojola-Talburt, Deputy Division Chief, 13922 Denver West Parkway Suite 200, Lakewood, CO 80401; or by email to winter.jojola-talburt@bia.gov. Please reference Office of Management and Budget (OMB) Control Number 1076-0177 in the subject line of your comments.

FOR FURTHER INFORMATION CONTACT: To request additional information about this ICR, contact Winter Jojola-Talburt by email at winter.jojola-talburt@bia.gov, or by telephone at 720-407-0668. Individuals who are hearing or speech impaired may call the Federal Relay Service at 1-800-877-8339 for TTY assistance. You may also view the ICR at http://www.reginfo.gov/public/do/PRAMain.

SUPPLEMENTARY INFORMATION: In accordance with the Paperwork Reduction Act of 1995 (PRA, 44 U.S.C. 3501 et seq.) and 5 CFR 1320.8(d)(1), all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The Energy Policy Act of 2005 authorizes the Secretary of the Interior to provide assistance to Indian Tribes and Tribal energy resource development organizations for energy development and appropriates funds for such projects on a year-to-year basis. See 25 U.S.C. 3502. When funding is available, the Office of Indian Energy and Economic Development (IEED) may solicit proposals for projects for building capacity for Tribal energy resource development on Indian land from Tribal energy resource development organizations and Indian Tribes, including Alaska Native regional and village corporations under the TEDC program. For the purposes of this program, “Indian land” includes: All land within the boundaries of an Indian reservation, pueblo, or rancheria; any land outside those boundaries that is held by the United States in trust for a Tribe or individual Indian or by a Tribe or individual Indian with restrictions on alienation; and land owned by an Alaska Native regional or village corporation.

Those who would like to submit a TEDC project proposal must submit an application that includes certain information and, once funding is received must submit reports on how they are using the funding. A complete application must contain the following:

• A formal signed resolution of the governing body of the Tribe or Tribal energy resource development organization demonstrating authority to apply;

• A proposal describing the planned activities and deliverable products; and

• A detailed budget estimate, including contracted personnel costs, travel estimates, data collection and analysis costs, and other expenses.

The project proposal must include the information about the Tribe or Tribal energy resource development organization sufficient to allow IEED to evaluate the proposal based on the following criteria:

(a) Energy resource potential;

(b) Applicant's energy resource development history and current status;

(c) Applicant's existing energy resource development capabilities;

(d) Demonstrated willingness of the applicant to establish and maintain an independent energy resource development business entity;

(e) Intent to develop and retain energy development capacity within the applicant's government or business entities; and

(f) Applicant commitment of staff, training, or monetary resources.

The IEED requires this information to ensure that it provides funding only to those projects that meet the goals of the TEDC and the purposes for which Congress provides the appropriations.

Title of Collection: Tribal Energy Development Capacity Program.

OMB Control Number: 1076-0177.

Form Number: None.

Type of Review: Extension of a currently approved collection.

Respondents/Affected Public: Indian Tribes and Tribal energy resource development organizations under 25 U.S.C. 3502.

Total Estimated Number of Annual Respondents: 26 per year, on average; 9 project participants each year, on average.

Total Estimated Number of Annual Responses: 26 applications per year, on average; 18 progress reports per year, on average.

Estimated Completion Time per Response: 40 hours per application; 1.5 hours per progress report.

Total Estimated Number of Annual Burden Hours: 1,067 hours (1,040 for applications and 27 for progress reports).

Respondent's Obligation: Responses required to receive a benefit.

Frequency of Collection: Once per year for applications; 2 times per year for progress reports.

Total Estimated Annual Nonhour Burden Cost: $0.

An agency may not conduct or sponsor and a person is not required to respond to a collection of information unless it displays a currently valid OMB control number.

The authority for this action is the Paperwork Reduction Act of 1995 (44 U.S.C. 3501 et seq).

Elizabeth K. Appel,
Director, Office of Regulatory Affairs and Collaborative Action—Indian Affairs.

[FR Doc. 2020-10091 Filed 5-11-20; 8:45 am]

BILLING CODE 4337-15-P